DEPARTMENT OF AGRICULTURE

Forest Service

Notice of New Recreation Fee Site; Federal Lands Recreation Enhancement Act, (Title VIII, Pub. L. 108-447)

AGENCY: Daniel Boone National Forest, USDA Forest Service.

ACTION: Notice of new recreation fee site.

SUMMARY: The Daniel Boone National Forest will begin charging a $25 group day use rental fee for the Alpine Picnic Area picnic shelter, the Natural Arch Scenic Area picnic shelter and the Natural Arch Scenic Area amphitheater. These facilities are currently only available on a first come first serve basis. Rentals of other picnic shelters on the Daniel Boone National Forest have shown that groups would like an option to reserve the shelters for their use. Shelter rentals allow public groups to plan activities in advance with the guarantee the shelter will be available for their use. The facilities will continue to be available on a first come first serve basis if not reserved. Fee revenue will be used to help cover the administrative cost of reserving and preparing the facilities for group rentals.

DATES: The fee is scheduled for implementation in May of 2008.

ADDRESSES: Recreation Fee Program Coordinator, Daniel Boone National Forest, 1700 Bypass Road, Winchester, KY 40391.

FOR FURTHER INFORMATION CONTACT: Myra Williamson, Recreation Fee Coordinator, 859-745-3154.

SUPPLEMENTARY INFORMATION: The Federal Recreation Lands Enhancement Act (Title VIII, Pub. L. 108-447) directed the Secretary of Agriculture to publish advance notice in the Federal Register whenever new recreation fee areas are established. This new fee will be reviewed by a Recreation Resource Advisory Committee prior to a final decision and implementation. The Daniel Boone National Forest currently charges $25 group use rental fees for two other picnic shelters under the authority of the Federal Recreation Lands Enhancement Act.

Dated: October 1, 2007.
Jerome E. Perez,
Daniel Boone National Forest Supervisor.

[FR Doc. 07-4964 Filed 10-5-07; 8:45 am]

BILLING CODE 3410-52-M